DEPARTMENT OF DEFENSE

Department of the Navy

Notice of Availability of Record of Decision for Navy Real Estate Actions in Support of Honolulu High-Capacity Transit Corridor Project, Hawaii

AGENCY: Department of the Navy, DoD.

ACTION: Notice.

SUMMARY: The Department of the Navy (DoN), after participating as a cooperating agency and carefully and independently reviewing and evaluating the Final Environmental Impact Statement (EIS) for the Honolulu High-Capacity Transit Corridor Project (HHCTCP), prepared by the U.S. Department of Transportation Federal Transit Administration (FTA) and the City and County of Honolulu Department of Transportation Services, announces its decision to adopt the Final EIS and implement several real estate actions in support of the HHCTCP as set out in the Airport Alternative, which was identified as the preferred alternative in the Final EIS. DoN real estate actions would involve the conveyance of approximately 1.6 acres of land and the granting of various easements and license agreements to allow for construction and operation of the HHCTCP.

SUPPLEMENTARY INFORMATION: The complete text of the Record of Decision is available at https://www.cnic.navy.mil/NavyROD_HHCTC. The FTA's Final EIS dated June 2010 and supporting documents are available at http://www.honolulutransit.org/document-library/eis.aspx. Single copies of the Record of Decision are available upon request by contacting: Aaron Poentis, Environmental Program Director, Navy Region Hawaii, 400 Marshall Road, Pearl Harbor, Hawaii 96860.

Dated: June 19, 2015.
N.A. Hagerty-Ford,
Commander, Judge Advocate General's Corps, U.S. Navy, Federal Register Liaison Officer.

[FR Doc. 2015-15717 Filed 6-25-15; 8:45 am]

BILLING CODE 3810-FF-P